DEPARTMENT OF COMMERCE

National Oceanic and Atmospheric Administration

[RTID 0648-XB104]

Gulf of Mexico Fishery Management Council; Public Meetings

AGENCY: National Marine Fisheries Service (NMFS), National Oceanic and Atmospheric Administration (NOAA), Commerce.

ACTION: Notice; public hearings and webinar.

SUMMARY: The Gulf of Mexico Fishery Management Council (Council) will hold three in-person public hearings and two webinar public hearings to solicit public comments on Reef Fish Amendment 53—Red Grouper Allocations and Annual Catch Levels and Targets.

DATES: The public hearings will take place June 7-16, 2021. The in-person public hearings and webinars will begin at 6 p.m. and will conclude no later than 9 p.m., EDT. For specific dates and times, see SUPPLEMENTARY INFORMATION. Written public comments must be received on or before 5 p.m. EDT on Tuesday, June 15, 2021.

ADDRESSES: Please visit the Gulf Council website at www.gulfcouncil.org for meeting materials and webinar registration information.

Meeting addresses: The public hearings will be held in Madeira Beach, Ft. Myers and Panama City, FL. For specific locations, see SUPPLEMENTARY INFORMATION.

Public comments: Comments may be submitted online through the Council's public portal by visiting www.gulfcouncil.org and clicking on “CONTACT US”.

FOR FURTHER INFORMATION CONTACT: Dr. Matthew Freeman, Economist; matt.freeman@gulfcouncil.org, Gulf of Mexico Fishery Management Council; telephone: (813) 348-1630.

SUPPLEMENTARY INFORMATION: The agenda for the following three in-person hearings and two webinars are as follows: Council staff will brief the public on the purpose and need of the amendment. The Council is currently considering reallocating red grouper between commercial and recreational sectors in the Gulf, as well as modifying the overfishing limit (OFL), acceptable biological catch (ABC), and annual catch limits (ACLs). The Council is also currently considering modifying the buffer between the ACL and annual catch target (ACT) for each sector. Council staff will also provide an overview of the actions and alternatives considered in the amendment including the Council's preferred alternatives.

Staff and a Council member will be available to answer any questions, and the public will have the opportunity to provide testimony on the amendment and other related testimony.

The schedule is as follows:

In-Person Locations and Webinars

Monday, June 7, 2021; The City Centre at City Hall, 300 Municipal Dr., Madeira Beach, FL 33708; (727) 391-9951.

Tuesday, June 8, 2021; Crowne Plaza Ft. Myers at Bell Tower Shops, 13051 Bell Tower Drive, Ft. Myers, FL 33907; telephone: (239) 482-2900.

Thursday, June 10, 2021 via webinar. Visit www.gulfcouncil.org website and click on the “meetings” tab for registration information. After registering, you will receive a confirmation email containing information about joining the webinar.

Monday, June 14, 2021; Hilton Garden Inn, 1101 U.S. Hwy. 231, Panama City, FL 32405; telephone: (850) 392-1093.

Wednesday, June 16, 2021; via webinar. Visit www.gulfcouncil.org website and click on the “meetings” tab for registration information. After registering, you will receive a confirmation email containing information about joining the webinar.

Special Accommodations

These meetings are physically accessible to people with disabilities. Requests for sign language interpretation or other auxiliary aids should be directed to Kathy Pereira (see ADDRESSES), at least 5 working days prior to the meeting date.

Authority: 16 U.S.C. 1801 et seq.

Dated: May 17, 2021.
Tracey L. Thompson,
Acting Deputy Director, Office of Sustainable Fisheries, National Marine Fisheries Service.

[FR Doc. 2021-10717 Filed 5-20-21; 8:45 am]

BILLING CODE 3510-22-P